DEPARTMENT OF AGRICULTURE

Foreign Agricultural Service

Trade Adjustment Assistance for Farmers

AGENCY: Foreign Agricultural Service, USDA.

ACTION: Notice.

The Administrator, Foreign Agricultural Service (FAS), approved for a subsequent year the trade adjustment assistance (TAA) petition that was filed by the Organized Seafood Association of Alabama, Inc., on behalf of Alabama shrimpers and initially certified on January 12, 2004. The re-certification date is January 10, 2005. Beginning on this date, shrimpers who land their catch in Alabama will be eligible to apply for fiscal year 2005 benefits during an application period ending on April 11, 2005.

SUPPLEMENTARY INFORMATION: Upon investigation, the Administrator determined that imports of farmed shrimp contributed importantly to a decline in the average landed price of shrimp in Alabama by 23.4 percent during the 2003 marketing period (January-December), compared to the 1997-2001 base period.

Eligible producers must apply to the Farm Service Agency for benefits. After submitting completed applications, producers shall receive technical assistance provided by the Extension Service at no cost and may receive an adjustment assistance payment, if certain program criteria are satisfied. Applicants in fiscal year 2005, who did not receive technical assistance under the fiscal year 2004 TAA program, must obtain the technical assistance from the Extension Service by July 11, 2005, in order to be eligible for financial payments.

Producers of raw agricultural commodities wishing to learn more about TAA and how they may apply should contact the Department of Agriculture at the addresses provided below for General Information.

Producers Certified as Eligible for TAA, Contact: Farm Service Agency service centers.

For General Information About TAA, Contact: Jean-Louis Pajot, Coordinator, Trade Adjustment Assistance for Farmers, FAS, USDA, (202) 720-2916, email: trade.adjustment@fas.usda.gov.

Dated: December 15, 2004.
A. Ellen Terpstra,
Administrator, Foreign Agricultural Service.

[FR Doc. 04-28278 Filed 12-27-04; 8:45 am]

BILLING CODE 3410-10-P